DEPARTMENT OF AGRICULTURE

National Agricultural Statistics Service

Notice of Intent To Suspend the Census of Agriculture Survey

AGENCY: National Agricultural Statistics Service, USDA.

ACTION: Notice of suspension of data collection.

SUMMARY: This notice announces the intention of the National Agricultural Statistics Service (NASS) to suspend a currently approved information collection, the 2007 Census of Agriculture.

FOR FURTHER INFORMATION CONTACT: Joseph T. Reilly, Associate Administrator, National Agricultural Statistics Service, U.S. Department of Agriculture, (202) 720-4333.

SUPPLEMENTARY INFORMATION:

Title: 2007 Census of Agriculture.

OMB Control Number: 0535-0226.

Expiration Date of Approval: July 31, 2009.

Type of Request: To suspend a currently approved information collection.

Abstract: The primary objective of the National Agricultural Statistics Service is to prepare and issue State and national estimates of crop and livestock production, disposition, and prices. The 2007 Census of Agriculture survey was conducted as a one time only survey to gather comprehensive agricultural information. The Census of Agriculture is conducted once every five years. A Paperwork Reduction Act packet will be submitted to the Office of Management and Budget (OMB) for renewal in time for the 2012 Census of Agriculture. Several follow-on census surveys will be conducted under independent OMB Control Numbers. NASS will suspend this information collection (2007 Census of Agriculture) as of May 11, 2009 due to the completion of the survey.

Authority: These data were collected under authority of 7 U.S.C. 2204g. Individually identifiable data collected under this authority are governed by Section 1770 of the Food Security Act of 1985 as amended, 7 U.S.C. 2276, which requires USDA to afford strict confidentiality to non-aggregated data provided by respondents.

Estimate of Burden: There will be no further public reporting burden for this collection of information.

Signed at Washington, DC, April 29, 2009.
Joseph T. Reilly,
Associate Administrator.

[FR Doc. E9-10832 Filed 5-8-09; 8:45 am]

BILLING CODE 3410-20-P